TENNESSEE VALLEY AUTHORITY

Sunshine Act Meeting Notice

Meeting No. 16-01

The TVA Board of Directors will hold a public meeting on February 11, 2016, in the Missionary Ridge Auditorium of the Chattanooga Office Complex, 1101 Market Street, Chattanooga, Tennessee. The public may comment on any agenda item or subject at a public listening session which begins at 8:30 a.m. (ET). Following the end of the public listening session, the meeting will be called to order to consider the agenda items listed below. On-site registration will be available until 15 minutes before the public listening session begins at 8:30 a.m. (ET). Preregistered speakers will address the Board first. TVA management will answer questions from the news media following the Board meeting.

Status: Open.

Agenda

Chair's Welcome

Old Business

Approval of minutes of the November 20, 2015, Board Meeting

New Business

1. Report from President and CEO

2. Governance Items

A. Committee Charters

B. Board Practice on Confidential Information

3. Report of the Audit, Risk, and Regulation Committee

A. Regulation of Pole Attachment Fees

4. Report of the Finance, Rates, and Portfolio Committee

5. Report of the Nuclear Oversight Committee

6. Report of the External Relations Committee

7. Report of the People and Performance Committee

A. Chair Selection

8. Information Items

A. Kingston Insurance Arbitration Settlement

B. Watts Bar Unit 2 Capital Project Budget Increase

C. Vehicular Accident Litigation Settlement

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: February 4, 2016.
Sherry A. Quirk,
General Counsel.

[FR Doc. 2016-02646 Filed 2-5-16; 11:15 am]

BILLING CODE 8120-08-P